DEPARTMENT OF HEALTH AND HUMAN SERVICES

42 CFR Part 100

RIN 0906-AB00

National Vaccine Injury Compensation Program: Revisions to the Vaccine Injury Table

AGENCY: Office of the Secretary, HHS.

ACTION: Notice of public hearing.

SUMMARY: This document announces a public hearing to receive information and views on the Notice of Proposed Rulemaking (NPRM) entitled “National Vaccine Injury Compensation Program: Revisions to the Vaccine Injury Table.”

DATES: January 14, 2016, from 11 a.m.-12:30 p.m. (EST).

ADDRESSES: 5600 Fishers Lane, Conference Room 08SWH01, Rockville, Maryland 20857 (and via audio conference call and Adobe Connect).

FOR FURTHER INFORMATION CONTACT: Dr. Melissa Houston, Director, Division of Injury Compensation Programs, at 855-266-2427 or by email at ahouston@hrsa.gov.

SUPPLEMENTARY INFORMATION: The Secretary proposes to amend the Vaccine Injury Table (Table) by regulation. These proposed regulations will have effect only for petitions for compensation under the National Vaccine Injury Compensation Program (VICP) filed after the final regulations become effective. The Secretary is seeking public comment on the proposed revisions to the Table.

The NPRM was published in the Federal Register, July 29, 2015, 80 FR 45132, http://www.gpo.gov/fdsys/pkg/FR-2015-07-29/pdf/2015-17503.pdf. The public comment period closes on January 26, 2016.

A public hearing will be held within the 180-day public comment period. This hearing is to provide an open forum for the presentation of information and views concerning all aspects of the NPRM by interested persons.

In preparing a final regulation, the Secretary will consider the administrative record of this hearing along with all other written comments received during the comment period specified in the NPRM. Individuals or representatives of interested organizations are invited to participate in the public hearing in accordance with the schedule and procedures set forth below.

The presiding officer representing the Secretary, HHS will be Dr. Melissa Houston, Director, Division of Injury Compensation Programs, Healthcare Systems Bureau (HSB), Health Resources and Services Administration.

Persons who wish to participate are requested to file a notice of participation with the Department of Health and Human Services (HHS) on or before January 11, 2016. The notice should be mailed to Annie Herzog, Division of Injury Compensation Programs, HSB, 5600 Fishers Lane, Rockville, Room 08N146B, Maryland 20857 or emailed to aherzog@hrsa.gov. To ensure timely handling, any outer envelope or the subject line of an email should be clearly marked “DICP NPRM Hearing.” The notice of participation should contain the interested person's name, address, email address, telephone number, any business or organizational affiliation of the person desiring to make a presentation, a brief summary of the presentation, and the approximate time requested for the presentation. Groups that have similar interests should consolidate their comments as part of one presentation. Time available for the hearing will be allocated among the persons who properly file notices of participation. If time permits, interested parties attending the hearing who did not submit notice of participation in advance will be allowed to make an oral presentation at the conclusion of the hearing.

Persons who find that there is insufficient time to submit the required information in writing may give oral notice of participation by contacting Annie Herzog, Division of Injury Compensation Programs, at (301) 443-6634 or email at aherzog@hrsa.gov, no later than January 11, 2016.

After reviewing the notices of participation and accompanying information, HHS will schedule each appearance and notify each participant by mail, email, or telephone of the time allotted to the person(s) and the approximate time the person's oral presentation is scheduled to begin.

Written comments and transcripts of the hearing will be made available for public inspection as soon as they have been prepared, on weekdays (federal holidays excepted) between the hours of 8:30 a.m. and 5 p.m. (EDT) by contacting Annie Herzog by mail at Division of Injury Compensation Programs, Room 08N146B, 5600 Fishers Lane, Rockville, Maryland 20857, email at aherzog@hrsa.gov, or phone at 301-443-6634. We intend to post written comments and transcripts to regulations.gov as soon as practicable. The public can join the meeting by:

1. (In Person) Persons interested in attending the meeting in person are encouraged to submit a written notification to: Annie Herzog, Division of Injury Compensation Programs, Healthcare Systems Bureau (HSB), Health Resources and Services Administration (HRSA), 5600 Fishers Lane, Room 08N146B, Rockville, Maryland 20857 or email: aherzog@hrsa.gov. Since this meeting is held in a federal government building, attendees will need to go through a security check to enter the building and participate in the meeting. This written notification is encouraged so that a list of attendees can be provided to make entry through security quicker. Persons may attend in person without providing written notification, but their entry into the building may be delayed due to security checks and the requirement to be escorted to the meeting by a federal government employee. To request an escort to the meeting after entering the building, call Annie Herzog at 301-443-6634. The meeting will be held at 5600 Fishers Lane, Conference Room 08SWH01, Rockville, Maryland 20857. Individuals who plan to attend and need special assistance, such as sign language interpretation or other reasonable accommodations, should notify the contact person listed above at least 10 days prior to the meeting.

2. (Audio Portion) Calling the conference phone number 888-455-9673 and providing the following information:

Leaders Name: Dr. A. Melissa Houston.

Password: 4185364.

3. (Visual Portion) Connecting to the ACCV Adobe Connect Pro Meeting using the following URL: https://hrsa.connectsolutions.com/accv/ (copy and paste the link into your browser if it does not work directly, and enter as a guest). Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview. Call (301) 443-6634 or send an email to aherzog@hrsa.gov if you are having trouble connecting to the meeting site.

Dated: January 4, 2016.
Sylvia M. Burwell,
Secretary.

[FR Doc. 2016-00156 Filed 1-7-16; 8:45 am]

BILLING CODE 4165-15-P